DEPARTMENT OF HEALTH AND HUMAN SERVICES

Establishment of the National Clinical Care Commission and Solicitation of Nominations for Commission Members

AGENCY: Office of Disease Prevention and Health Promotion, Office of the Assistant Secretary for Health, Office of the Secretary, U.S. Department of Health and Human Services.

ACTION: Notice.

SUMMARY: The U.S. Department of Health and Human Services (HHS) hereby announces the establishment of the National Clinical Care Commission (the Commission) pursuant to the National Clinical Care Commission Act. The Commission will consist of representatives of specific federal agencies and non-federal individuals and entities who represent diverse disciplines and views. The Commission will evaluate and make recommendations to the HHS Secretary and Congress regarding improvements to the coordination and leveraging of federal programs related to awareness and clinical care for complex metabolic or autoimmune diseases that result from issues related to insulin that represent a significant disease burden in the United States, which may include complications due to such diseases.

Through this notice, HHS is also requesting nominations of individuals who are interested in being considered for appointment to the Commission. Resumes or curricula vitae from qualified individuals who wish to be considered for appointment as a member of the Commission are currently being accepted.

DATES: Nominations must be received no later than close of business May 29, 2018.

ADDRESSES: Qualified persons and interested organizations are invited to submit nominations by any of the following methods:

• Email: OHQ@hhs.gov (please indicate in the subject line: National Clinical Care Commission)

• Mail/Courier: Office of Disease Prevention and Health Promotion, Attn: Division of Health Care Quality, Department of Health and Human Services, 1101 Wootton Parkway, Suite LL100, Rockville, MD 20852.

FOR FURTHER INFORMATION CONTACT: Clydette Powell, MD, MPH, FAAP, Director, Division of Health Care Quality, Office of Disease Prevention and Health Promotion, Office of the Assistant Secretary for Health; U.S. Department of Health and Human Services; Telephone: 240-453-8239; Email address: OHQ@hhs.gov (please indicate in the subject line: National Clinical Care Commission). The Commission charter may be accessed online at https://health.gov/hcq/national-clinical-care-commission.asp. The charter includes detailed information about the purpose, function, and structure of the Commission.

SUPPLEMENTARY INFORMATION: The National Clinical Care Commission Act (Pub. L. 115-80) requires the HHS Secretary to establish the National Clinical Care Commission. The Commission will consist of representatives of specific federal agencies and non-federal individuals and entities who represent diverse disciplines and views. The Commission will evaluate and make recommendations to the HHS Secretary and Congress regarding improvements to the coordination and leveraging of federal programs related to awareness and clinical care for complex metabolic or autoimmune diseases that result from issues related to insulin that represent a significant disease burden in the United States, which may include complications due to such diseases.

Objectives and Scope of Activities. The Commission shall evaluate and make recommendations, as appropriate, to the Secretary and Congress regarding:

(1) Federal programs of the Department of Health and Human Services that focus on preventing and reducing the incidence of complex metabolic or autoimmune diseases resulting from issues related to insulin that represent a significant disease burden in the United States, which may include complications due to such diseases;

(2) Current activities and gaps in federal efforts to support clinicians in providing integrated, high-quality care to individuals with the diseases and complications;

(3) The improvement in, and improved coordination of, federal education and awareness activities related to the prevention and treatment of the diseases and complications, which may include the utilization of new and existing technologies;

(4) Methods for outreach and dissemination of education and awareness materials that—

(a) address the diseases and complications;

(b) are funded by the federal government; and

(c) are intended for health care professionals and the public; and

(5) Whether there are opportunities for consolidation of inappropriately overlapping or duplicative federal programs related to the diseases and complications.

Membership and Designation. The Commission shall consist of 23 voting members. The composition shall include eleven ex-officio members and twelve non-federal members. The ex-officio members shall consist of the heads of, or subordinate officials designated by the heads of, the following federal departments, agencies, or components: The Centers for Medicare and Medicaid Services, the Agency for Healthcare Research and Quality, the Centers for Disease Control and Prevention, the Indian Health Service, the National Institutes of Health, the Food and Drug Administration, the Health Resources and Services Administration, the Office of Minority Health, the Department of Defense, the Department of Veterans Affairs, and the Department of Agriculture.

The twelve non-federal members shall be appointed as special government employees (SGEs) by the Secretary and shall have expertise in prevention, care, and epidemiology of any of the diseases and complications described in Section 2(a) of the National Clinical Care Commission Act. The non-federal members shall include one or more members from each of the following categories: Physician specialties, including clinical endocrinologists, that play a role in the prevention or treatment of diseases and complications; primary care physicians; non-physician health care professionals; patient advocates; national experts, including public health experts; and health care providers furnishing services to a patient population that consists of a high percentage (as specified by the Secretary) of individuals who are enrolled in a state plan under title XIX of the Social Security Act or who are not covered under a health plan or health insurance coverage. One of the non-federal members shall be selected by the members to serve as the Chair.

The ex-officio members and non-federal members shall be appointed to serve for the duration of the time that the Commission is authorized to operate. Any vacancy of a non-federal member shall be filled in the same manner as the original appointments. Any non-federal member who is appointed to fill the vacancy of an unexpired term shall be appointed to serve for the remainder of that term.

Pursuant to advance written agreement, each non-federal member of the Commission will waive his or her right to compensation for performing services as a member of the Commission. However, non-federal members shall receive per diem and reimbursement for travel expenses incurred in relation to performing duties for the Commission, as authorized by FACA and 5 U.S.C. 5703 for persons who are employed intermittently to perform services for the Federal government and in accordance with federal travel regulations. Ex-officio members of the Commission remain covered under their current compensation system.

Estimated Number and Frequency of Meetings. The Commission shall meet at least twice and not more than four times a year. These meetings may be in person or conducted by teleconference or videoconference at the discretion of the Designated Federal Official (DFO). The meetings shall be open to the public, except as determined otherwise by the Secretary, or other official to whom authority has been delegated, in accordance with the guidelines under Government in the Sunshine Act, 5 U.S.C. 552b(c). Notice of all meetings shall be provided to the public in accordance with the FACA. Meetings shall be conducted and records of the proceedings shall be kept, as required by applicable laws and departmental policies. A quorum is required for the Commission to meet to conduct business. A quorum shall consist of a majority of the Commission's voting members.

When the Secretary or designee determines that a meeting shall be closed or partially closed to the public, in accordance with stipulations of Government in the Sunshine Act, 5 U.S.C. 552b(c), then a report shall be prepared by the DFO that includes, at a minimum, a list of members and their business addresses, the Commission's functions, date and place of the meeting, and a summary of the Commission's activities and recommendations made during the fiscal year. A copy of the report will be provided to the Department's Committee Management Officer.

Nominations. Nominations, including self-nominations, of individuals who have the specified expertise and knowledge will be considered for appointment as members of the Commission. A nomination should include, at a minimum, the following for each nominee: (1) A letter of nomination that clearly states the name and affiliation of the nominee, the basis for the nomination, and a statement from the nominee that indicates that the individual is willing to serve as a member of the Commission, if selected; (2) a one-page biography that describes the nominee's qualifications and, if applicable, highlights relevant experience on other federal advisory committees; (3) the nominator's name, address, and daytime telephone number; and the address, telephone number, and email address of the individual being nominated; and (4) a current copy of the nominee's curriculum vitae or resume, which should be limited to no more than 30 pages. Incomplete nomination packages will not be reviewed.

Every effort will be made to ensure that the composition of the Commission includes individuals from various geographic locations, including rural and underserved areas; racial and ethnic minorities; genders, and persons living with disabilities. Individuals other than officers or employees of the United States government being considered for appointment as members of the Commission will be required to complete and submit a report of their financial holdings. An ethics review must be conducted to ensure that individuals appointed as members of the Commission are not involved in any activity that may pose a potential conflict of interest for the official duties that are to be performed. This is a federal ethics requirement that must be satisfied upon entering the position and annually throughout the established term of appointment on the Commission.

Authority: The National Clinical Care Commission Act (Pub. L. 115-80) requires establishment of the National Clinical Care Commission. The Commission is governed by provisions of the Federal Advisory Committee Act, Public Law 92-463, as amended (5 U.S.C. App.), which sets forth standards for the formation and use of federal advisory committees.

Dated: April 19, 2018.
Don Wright,
Deputy Assistant Secretary for Health (Disease Prevention and Health Promotion).

[FR Doc. 2018-08797 Filed 4-25-18; 8:45 am]

BILLING CODE 4150-32-P